DEPARTMENT OF HOMELAND SECURITY

Coast Guard

33 CFR Part 165

[Docket Number USCG-2018-1105]

Safety Zone, Brandon Road Lock and Dam to Lake Michigan Including Des Plaines River, Chicago Sanitary and Ship Canal, Chicago River, and Calumet-Saganashkee Channel, Chicago, IL

AGENCY: Coast Guard, DHS.

ACTION: Notice of enforcement of regulation.

SUMMARY: The Coast Guard will enforce the following segment of the Safety Zone: Brandon Road Lock and Dam to Lake Michigan including Des Plaines River, Chicago Sanitary and Ship Canal, Chicago River, and Calumet-Saganashkee Channel on all waters of the Chicago Sanitary and Ship Canal between Mile Marker 296.1 to Mile Marker 296.7 at specified times from December 21, 2018 until February 8, 2019. This action is necessary to protect the waterway and vessels from the potential hazards associated with maintenance operations being conducted by the U.S. Army Corps of Engineers at the U.S. Army Corps of Engineer's Electric Dispersal Barrier.

DATES: The regulations in 33 CFR 165.930 will be enforced each Monday through Friday, from 7 a.m. until 5 p.m., without actual notice from December 28, 2018 until February 8, 2019. For purposes of enforcement, actual notice will be used from December 21, 2018 until December 28, 2018.

FOR FURTHER INFORMATION CONTACT: Call or email LT John Ramos (Waterways Management Division Chief, Marine Safety Unit Chicago, U.S. Coast Guard) if you have questions about this notice of enforcement; telephone 630-986-2155; email address D09-DG-MSUChicago-Waterways@uscg.mil.

SUPPLEMENTARY INFORMATION: The Coast Guard will enforce the following segment of the Safety Zone: Brandon Road Lock and Dam to Lake Michigan including Des Plaines River, Chicago Sanitary and Ship Canal, Chicago River, Calumet-Saganashkee Channel, Chicago, IL, listed in 33 CFR 165.930. Specifically, the Coast Guard will enforce this safety zone on all waters of the Chicago Sanitary and Ship Canal between Mile Marker 296.1 to Mile Marker 296.7. Enforcement will occur on each Monday through Friday from 7 a.m. until 5 p.m., from December 21, 2018 until February 8, 2019. All vessels must obtain permission from the Captain of the Port, Sector Lake Michigan, or his or her designated representative to enter into, transit, moor, lay up or anchor within any enforced segment of the safety zone when the safety zone is enforced. Vessels and persons granted permission to enter the safety zone shall obey all lawful orders or directions of the Captain of the Port Lake Michigan, or his or her on-scene representative.

This notice of enforcement is issued under the authority of 33 CFR 165.930 and 5 U.S.C. 552(a). In addition to this publication in the Federal Register, the Captain of the Port Lake Michigan will also provide notice through other means, which will include Broadcast Notice to Mariners, Local Notice to Mariners, and distribution in leaflet form. Additionally, the Captain of the Port Lake Michigan may notify representatives from the maritime industry through telephonic and email notifications. If the Captain of the Port or a designated representative determines that the regulated area need not be enforced for the full duration stated in this notice of enforcement or suspends the safety zone in part, he or she may use a Broadcast Notice to Mariners, Local Notice to Mariners, and may notify representatives from the maritime industry through telephonic and email notifications to grant general permission to enter the regulated area. The Captain of the Port Lake Michigan or a designated on-scene representative may be contacted via Channel 16, VHF-FM or at (414) 747-7182.

Dated: December 20, 2018.
Thomas J. Stuhlreyer,
Captain, U.S. Coast Guard, Captain of the Port Lake Michigan.

[FR Doc. 2018-28162 Filed 12-27-18; 8:45 am]

BILLING CODE 9110-04-P